DEPARTMENT OF COMMERCE

National Oceanic and Atmospheric Administration

Proposed Information Collection; Comment Request; Panel Member Survey To Develop Indicators of Resilient Coastal Tourism

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 18, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Chris Ellis, (843) 740-1195 or Chris.Ellis@noaa.gov.

SUPPLEMENTARY INFORMATION:

I. Abstract

This request is for a new information collection.

The purpose of this survey is to better understand the factors that shape the tourism industry's ability to adapt to or bounce back from external shocks such as natural disasters, climate change, and economic downturns (i.e. resiliency) in order to develop a set of indicators to measure the resiliency of coastal tourism. To help gather this information, NOAA will conduct a multi-round, iterative survey process based on the Delphi Method, which is a structured method for eliciting and combining expert opinion. The method requires indirect interaction among experts through a moderator. Experts make individual judgments, and these judgments are shared anonymously with the whole group. After viewing other experts' judgments, each expert is then given the opportunity to revise his or her own judgments, and the process is repeated. Theoretically, the goal of the Delphi study is to reach a consensus after a few rounds. In reality this rarely happens; thus, at the end of the Delphi rounds, the experts' final judgments are typically combined mathematically.

NOAA will apply the Delphi Method to a multi-round survey of panels of individuals with experience and insight into tourism resiliency and/or the tourism industry in two geographic areas: (1) The Central North Carolina Coast, and (2) The San Francisco Bay Area (inner and outer coast). Data to be collected through the survey include factors that may prevent or facilitate tourism resiliency as well as ranking or rating of those factors; suggested resiliency indicators; relevance and usefulness of resiliency indicators; and levels of respondent certainty with regard to their responses.

II. Method of Collection

The survey will be provided to respondents in electronic format via email and responses will be submitted via email of electronic forms.

III. Data

OMB Control Number: None.

Form Number: None.

Type of Review: Regular submission (new information collection).

Affected Public: Non-profit institutions; Federal Government; State, local, or tribal government; Business or other for-profit organizations.

Estimated Number of Respondents: 40.

Estimated Time per Response: Four hours per respondent as follows: Preliminary webinar, 1 hour; first round survey, 1 hour; second round survey, 1 hour; and final webinar, 1 hour.

Estimated Total Annual Burden Hours: 160.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 11, 2013.
Gwellnar Banks,
Management Analyst, Office of the Chief Information Officer.

[FR Doc. 2013-29905 Filed 12-16-13; 8:45 am]

BILLING CODE 3510-08-P